DEPARTMENT OF DEFENSE

Department of the Navy

Privacy Act of 1974; System of Records

AGENCY: Department of the Navy.

ACTION: Notice to add a system of records.

SUMMARY: The Department of the Navy proposes to add a system of records notice to its inventory of record systems subject to the Privacy Act of 1974 (5 U.S.C. 552a), as amended.

DATES: This action will be effective on January 19, 2005, unless comments are received that would result in a contrary determination.

ADDRESSES: Send comments to Department of the Navy, PA/FOIA Policy Branch, Chief of Naval Operations, DNS10, (DNS-36), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on December 13, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (61 FR 6427, February 20, 1996).

Dated: December 14, 2004.
Jeannette Owings-Ballard,
OSD Federal Register Liaison Officer, Department of Defense.

NM07010-1

System Name:

DON Non-Appropriated Funds Standard Payroll System.

System Location:

Non-appropriated activities in the Department of the Navy. Official mailing addresses are published in the Standard Navy Distribution List that is available at http://neds.daps.dla.mil/sndl.htm.

Categories of Individual's Covered by the System:

Department of the Navy non-appropriated fund employees.

Categories of Records in the System:

Time and attendance records; personal payroll data listings; correspondence; combined payroll checks and employee leave and earnings statements; Federal, state, and city tax reports and or tapes; and individual pay and leave records.

Authority for Maintenance of the System:

10 U.S.C. 5013, Secretary of the Navy and E.O. 9397 (SSN).

Purpose(s):

To compute employees' pay entitlements and deductions and issue payroll checks for amounts due; to withhold amounts due for Federal, state, and city taxes, to remit withholdings to the taxing authorities, and to report earnings and tax collections; and upon request of employees, to deduct specified amounts from earnings for charity, union dues, and for allotments to financial organizations.

Routine Uses of Records Maintained in the System, Including Categories of Users and the Purposes of such Uses:

In addition to those disclosures generally permitted under 5 U.S.C. 552a(b) of the Privacy Act, these records or information contained therein may specifically be disclosed outside the DoD as a routine use pursuant to 5 U.S.C. 552a(b)(3) as follows:

To the Internal Revenue Service to record wages earned, tax withheld, and social security information.

To state revenue departments to credit employee's state withholding.

To state employment agencies which require wage information to determine eligibility of unemployment compensation benefits of former employees.

To city revenue departments of appropriate cities to credit employees for city tax withheld.

The DoD ‘Blanket Routine Uses’ published at the beginning of the Navy's compilation of systems of records notices apply to this system.

Disclosure to Consumer Reporting Agencies:

Disclosures pursuant to 5 U.S.C. 552a(b)(12) may be made from this system to ‘consumer reporting agencies’ as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number), the amount, status, and history of the claim; and the agency or program under which the claim arose for the sole purpose of allowing the consumer reporting agency to prepare a commercial credit report.

Policies and practices for storing, retrieving, accessing, retaining, and disposing of records in the system:

Storage:

Paper records and on automated storage media.

Retrievability:

Name and/or Social Security Number (SSN).

Safeguards:

Records are accessed by person(s) responsible for servicing the record system in performance of their official duties and who are properly screened and cleared for need-to-know. Records are stored in security file containers/cabinets and safes, protected by guards, and controlled by personnel screening, visitor registers and computer system software.

Retention and Disposal:

Paper records are destroyed 10 years after employment is terminated. Electronic records are maintained and purged by payroll contractor and destroyed in the 7th year after origination.

System Manager(s) and Address:

Policy Official: Commander, Navy Installations Millington Detachment, 5720 Integrity Drive, Millington, TN 38055-6500.

Record Holder: Non-appropriated fund activities in the Department of the Navy. Official mailing addresses are published in the Standard Navy Distribution List that is available at http://neds.daps.dla.mil/sandl.htm.

Notification Procedure:

Individuals seeking to determine whether this system of records contains information about themselves should address written inquiries to the commanding officer of the activity in question. Official mailing addresses are published in the Standard Navy distribution List that is available at http://neds.daps.dla.mil/sndl.htm.

The request should include full name, Social Security Number, address of the individual concerned and should be signed.

Record Access Procedures:

Individuals seeking access to information about themselves contained in this system should address written inquiries to the commanding officer of the activity in question. Official mailing addresses are published in the standard Navy Distribution List that is available at http://neds.daps.dla.mil/sndl.htm.

The request should include full name, Social Security Number, address of the individual concerned and should be signed.

Contesting Record Procedures:

The Navy's rules for accessing records, and for contesting contents and appealing initial agency determinations are published in Secretary of the Navy Instruction 5211.5; 32 CFR part 701; or may be obtained from the system manager.

Record Source Categories:

Individual; employee's supervisor; local Morale, Welfare, and Recreation (MWR) Activities' Personnel Offices; Internal Revenue Service; credit bureaus; Commander, Navy Installations Command, Millington Detachment; and contractors who process payroll Navy MWR activities.

Exemptions Claimed for the System:

None.

[FR Doc. 04-27700 Filed 12-17-04; 8:45 am]

BILLING CODE 5001-06-M